FEDERAL MARITIME COMMISSION

Ocean Transportation Intermediary Licenses Correction

In the Federal Register Notice published February 23, 2006 (71 FR 36) reference to the name and address of Fastland Shipping, Inc., 1990 Westweed Blvd. is corrected to read: Fastlane Shipping, Inc., 1990 Westwood Blvd., Suite #240, Los Angeles, CA 90025.

Dated: February 24, 2006.
Bryant L. VanBrakle,
Secretary.

[FR Doc. E6-2888 Filed 2-28-06; 8:45 am]

BILLING CODE 6730-01-P